DEPARTMENT OF TRANSPORTATION

Research and Special Programs Administration

Office of Hazardous Materials Safety; Notice of Applications for Modification of Exemption.

AGENCY: Research and Special Programs Administration, DOT.

ACTION: List of applications for modification of exemptions.

SUMMARY: In accordance with the procedures governing the application for, and the processing of, exemptions from the Department of Transportation's Hazardous Materials Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g., to provide for additional hazardous materials, packaging design changes, additional mode of transportation, etc.) are described in footnotes to the application number. Application numbers with the suffix “M” denote a modification request. These applications have been separated from the new applications for exemptions to facilitate processing.

DATES: Comments must be received on or before April 7, 2000.

ADDRESS COMMENTS TO: Records Center, Research and Special Programs Administration, U.S. Department of Transportation, Washington, DC 20590. Comments should refer to the application number and be submitted in triplicate. If confirmation of receipt of comments is desired, include a self-addressed stamped postcard showing the exemption number.

FOR FURTHER INFORMATION CONTACT: Copies of the application are available for inspection in the Records Center, Nassif Building, 400 7th Street SW, Washington, DC or at http://dms.dot.gov.

This notice of receipt of application for modification of exemptions is published in accordance with Part 107 of the Federal hazardous materials transportation law (49 U.S.C. 5117(b); 49 CFR 1.53(b)).

Issued in Washington, DC, on March 17, 2000.
J. Suzanne, Hedgepeth,
Director, Office of Hazardous Materials Exemptions and Approvals.

Application No. | Docket No. | Applicant | Modification of exemption
8723-M |  | Austin Powder Company, Cleveland, OH (See Footnote 1) | 8723
11691-M |  | Caribbean Refrescos, Inc., Cidra, PR (See footnote 2) | 11691
11725-M |  | Swales Aerospace, Inc., Beltsville, MD (See Footnote 3) | 11725
11749-M |  | Union Tank Car Company, E. Chicago, IN (See Footnote 4) | 11749
11761-M |  | Westvaco Corporation, Richmond, VA (See Footnote 5) | 11761
11798-M |  | Anderson Development Company, Adrian, MI (See Footnote 6) | 11798
11827-M |  | Moses Lake Industries, Inc., Moses Lake, WA (See Footnote 7) | 11827
12274-M | RSPA-1999-5707 | SNOW PEAK USA, INC., Lake Oswego, OR (See Footnote 8) | 12274
(1) To modify the exemption to allow for an additional tote bin packaging for the transportation in commerce of bulk shipments of certain blasting agents.
(2) To modify the exemption to allow for the transportation of an additional Class 3 material exempt from segregation requirements during vessel stowage.
(3) To modify the exemption to allow for the transportation of an additional Division 2.2 material, for domestic transport, in non-DOT specification containers.
(4) To modify the exemption to allow for the use acoustic emission for specific areas of a tank car in conjunction with other non-destructive test methods for structural integrity inspections.
(5) To modify the exemption to allow for the transportation of additional Class 8 materials in certain DOT specification and AAR specification tank cars; to allow relief from the marking requirements.
(6) To modify the exemption to allow for cargo aircraft only as an authorized mode of transportation for the transportation of Division 2.1 and 2.2 gases in DOT Specification 3A or 3AA cylinders; addition of a new provision to paragraph 8 of the exemption.
(7) To modify the exemption to allow for an additional Class 8 material in a DOT Specification IM 101 portable tank.
(8) To modify the exemption to allow for a reclassification of liquefied petroleum gas in certain metal receptacles to be shipped as an ORM-D GROUND.

[FR Doc. 00-7190 Filed 3-22-00; 8:45 am]

BILLING CODE 4910-60-M